DEPARTMENT OF AGRICULTURE

Forest Service

Notice of New Fee Sites

AGENCY: Helena-Lewis and Clark National Forest, Forest Service, USDA.

ACTION: Notice of New Fee Sites.

SUMMARY: The Helena-Lewis and Clark National Forest is proposing to charge a $45 fee for the overnight rental for each of the Granite Butte Historic Fire Lookout and the Miller Creek Cabin. These sites have not been available for recreation use prior to this date. Rentals of other cabins on the Helena-Lewis and Clark National Forest have shown that people appreciate and enjoy the availability of historic rental lookouts and cabins. Funds from the rentals will be used for the continued operation and maintenance of the Granite Butte Lookout and Miller Creek Cabin. This fee is only proposed and will be determined upon further analysis and public comment.

DATES: Send any comments about these fee proposals by April 11, 2016 so comments can be compiled, analyzed, and shared with the Western Montana Recreation Resource Advisory Committee. Both Granite Butte Lookout and Miller Cabin are proposed for recreation rental August, 2016.

ADDRESSES: William Avey, Forest Supervisor, Helena-Lewis and Clark National Forest, 2880 Skyway Drive, Helena, MT 59602 or Email to wavey@fs.fed.us.

FOR FURTHER INFORMATION CONTACT: Concerning Granite Butte Lookout: Josh Lattin, Natural Resource Specialist, Lincoln Ranger District at 406-362-7011 or joshlattin@fs.fed.us; or concerning the Miller Creek Cabin: Roy Barkley; Recreation Specialist, Townsend/Helena Ranger Districts at 406-495-3914 or rbarkley@fs.fed.us.

SUPPLEMENTARY INFORMATION: The Federal Recreation Lands Enhancement Act (Title VII, Pub. L. 108-447) directed the Secretary of Agriculture to publish a six month advance notice in the Federal Register whenever new recreation fee areas are established.

This new fee will be reviewed by the Western Montana Recreation Resource Advisory Committee prior to a final decision and implementation.

The Helena-Lewis and Clark National Forest currently has seven other cabin rentals; however, this will be the first lookout available to rent on the Forest. These rentals are often fully booked throughout their rental season. A business analysis of the Granite Butte Lookout and Miller Creek Cabin has shown that people desire having this sort of recreation experience on the Helena-Lewis and Clark National Forest, as well as surrounding Forests. A market analysis indicates that the $45/per night fee is both reasonable and acceptable for this sort of unique recreation experience.

People wanting to rent Granite Butte Lookout or Miller Creek Cabin will need to do so through the National Recreation Reservation Service, at www.recreation.gov or by calling 1-877-444-6777. The National Recreation Reservation Service charges a $9 fee for reservations.

Dated: February 18, 2016.
William Avey,
Helena-Lewis and Clark National Forest Supervisor.

[FR Doc. 2016-03841 Filed 2-23-16; 8:45 am]

BILLING CODE 3411-15-P